DEPARTMENT OF AGRICULTURE

Forest Service

Notice of Resource Advisory Committee, Sundance, WY

AGENCY: Notice of Resource Advisory Committee, Sundance, Wyoming, USDA Forest Service, USDA.

ACTION: Notice of meeting.

SUMMARY: Pursuant to the authorities in the Federal Advisory Committee Act (Pub. L. 92-463) and under the Secure Rural Schools and Community Self-Determination Act of 2000 (Pub. L. 106-393) the Black Hills National Forests' Crook County Resource Advisory Committee will meet Monday, September 11th, 2006 in Sundance, Wyoming for a business meeting. The meeting is open to the public.

SUPPLEMENTARY INFORMATION: The business meeting on September 11 will begin at 6:30 p.m., at the USFS Bearlodge Ranger District office, 121 South 21st Street, Sundance, Wyoming. Agenda topics will include a review of previously funded projects and consideration of FY 2007 project proposals. A public forum will begin at 8 p.m. (MT).

FOR FURTHER INFORMATION CONTACT: Steve Kozel, Bearlodge District Ranger and Designated Federal Officer at (307) 283-1361.

Dated: August 18, 2006.
Steven J. Kozel,
District Ranger, Bearlodge Ranger District.

[FR Doc. 06-7118 Filed 8-23-06; 8:45 am]

BILLING CODE 3410-11-M